DEPARTMENT OF ENERGY

Federal Energy Regulatory Commission

[Piney Hydroelectric Project No. 309-036 Pennsylvania]

Reliant Energy Mid-Atlantic Power Holdings, LLC; Notice of Availability of Environmental Assessment

May 13, 2004.

In accordance with the National Environmental Policy Act of 1969 and the Federal Energy Regulatory Commission's (Commission) regulations, 18 CFR part 380 (Order No. 486, 52 FR 47897), the Office of Energy Projects (staff) has reviewed the application for a new major license for the Piney Project, located on the Clarion River in Clarion County, Pennsylvania, and prepared an environmental assessment (EA) for the project.

In this EA, staff analyzes the potential environmental effects of the existing project and concludes that licensing the project, with staff's recommended measures, would not constitute a major federal action significantly affecting the quality of the human environment.

A copy of the EA and application is available for review at the Commission in the Public Reference Room, or may be viewed on the Commission's Web site at http://www.ferc.gov using the “e-Library” link. Enter the docket number excluding the last three digits in the docket number field to access the document. For assistance, contact FERC Online Support at FERCOnlineSupport@ferc.gov or toll-free at 1-866-208-3676, or for TTY, (202) 502-8659. Register online at http://www.ferc.gov/esubscribenow.htm to be notified via e-mail of new filings and issuances related to this or other pending projects. For assistance, contact FERC Online Support.

Any comments should be filed within 30 days from the date of this notice and should be addressed to Magalie R. Salas, Secretary, Federal Energy Regulatory Commission, 888 First Street, NE., Washington, DC 20426. Please affix “Piney Project No. 309-036” to all comments. For further information, please contact John Costello by e-mail at john.costello@ferc.gov or phone 202-502-6119.

The Commission strongly encourages electronic filings. Comments may be filed electronically via the Internet in lieu of paper. See 18 CFR 385.2001(a)(1)(iii) and the instructions on the Commission's Web site under the “e-Filing” link.

Magalie R. Salas,
Secretary.

[FR Doc. E4-1189 Filed 5-20-04; 8:45 am]

BILLING CODE 6717-01-P